DEPARTMENT OF ENERGY

Federal Energy Regulatory Commission

[Docket No. RP02-335-000]

ANR Pipeline Company; Notice of Proposed Change in FERC Gas Tariff

May 7, 2002.

Take notice that on May 1, 2002, ANR Pipeline Company (“ANR”), pursuant to Section 15.5 of the General Terms and Conditions FERC GAS Tariff, Second Revised Volume No. 1, tendered for filing the following revised tariff sheet to be effective June 1, 2002.

Thirty-Third Revised Sheet No. 17

This annual Cashout Price Surcharge filing reflects an increase in ANR's currently effective surcharge from $0.1508 per Dth to $0.4464 per Dth. This filing is ANR's eighth annual report of net cashout activity on its pipeline system and reflects the net financial results of shipper cashout activity during calendar year 2001 as well as the results of ANR's attempts to recover the prior period negative cashout balance.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-11863 Filed 5-10-02; 8:45 am]

BILLING CODE 6717-01-P